DEPARTMENT OF THE INTERIOR

National Park Service

[NPS-WASO-NAGPRA-18597; PPWOCRADN0-PCU00RP14.R50000]

Notice of Inventory Completion: Oregon State University, Department of Anthropology, Corvallis, OR; Correction

AGENCY: National Park Service, Interior.

ACTION: Notice; correction.

SUMMARY: The Oregon State University Department of Anthropology has corrected an inventory of human remains, published in a Notice of Inventory Completion in the Federal Register on June 24, 2014. This notice corrects the minimum number of individuals listed in that notice.

ADDRESSES: Brenda Kellar, Oregon State University, Department of Anthropology, 238 Waldo Hall, Corvallis, OR 97333, telephone (541) 737-4296, email Brenda.kellar@oregonstate.edu.

SUPPLEMENTARY INFORMATION: Notice is here given in accordance with the Native American Graves Protection and Repatriation Act (NAGPRA), 25 U.S.C. 3003, of the correction of an inventory of human remains under the control of the Oregon State University Department of Anthropology, Corvallis, OR. The human remains were removed from Casey, Christian, and Scott Counties, KY.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (79 FR 35779-35780, June 24, 2014). Re-inventory for repatriation discovered changes in the number of remains.

Correction

In the Federal Register (79 FR 35779-35780, June 24, 2014), paragraph 9, sentence 1 is corrected by substituting the following sentence:

Between 1930 and 1971, human remains representing, at minimum, three individuals were removed from an unknown site in Casey County, KY, by Dr. Neumann.

In the Federal Register (79 FR 35779-35780, June 24, 2014), paragraph 11, sentence 1 is corrected by substituting the following sentence:

Between 1930 and 1971, human remains representing, at minimum, two individuals were removed from an unknown site in Scott County, KY, by Dr. Neumann.

In the Federal Register (79 FR 35779-35780, June 24, 2014), paragraph 14, sentence 3 is corrected by substituting the following sentence:

Pursuant to 25 U.S.C. 3001(9), the human remains described in this notice represent the physical remains of 10 individuals of Native American ancestry.

The Oregon State University Department of Anthropology is responsible for notifying the Absentee-Shawnee Tribe of Indians of Oklahoma; Cherokee Nation; Eastern Band of Cherokee Indians; Eastern Shawnee Tribe of Oklahoma; Miami Tribe of Oklahoma; Shawnee Tribe; and United Keetoowah Band of Cherokee Indians in Oklahoma that this notice has been published.

Dated: June 29, 2015.
Melanie O'Brien,
Manager, National NAGPRA Program.

[FR Doc. 2015-19241 Filed 8-4-15; 8:45 am]

BILLING CODE 4312-50-P